DEPARTMENT OF ENERGY

Federal Energy Regulatory Commission

[Docket Nos. RP05-267-000, RP97-406-033, RP00-15-005, RP00-344-004, RP00-632-014]

Dominion Transmission, Inc.; Notice of Offer of Settlement

April 7, 2005.

Take notice that on April 1, 2005, Dominion Transmission, Inc. (DTI) filed a Stipulation and Agreement (Settlement), including pro forma tariff sheets, pursuant to 18 CFR 385.602 (2004) to reduce its rates for transportation service and the fuel retention level for its storage services and establish a five-year moratorium on further transportation and storage rate changes.

DTI states that the Settlement is designed as a limited settlement to existing Commission-approved settlements of DTI proceedings, with the Settlement Amendment leaving in place the settled resolution of a series of issues on the DTI system. DTI asserts that the Settlement preserves the benefit of previously settled issues while providing rate relief to the settling parties, ensuring rate certainty for all, and avoiding the cost and risks of potential litigation. DTI states that the base transportation rate reduction when combined with the storage fuel retention reduction will result in annual rate relief reflected in the Settlement of approximately $49 million.

DTI states that it has served copies of this filing on all parties in Docket Nos. RP97-406, RP00-15, RP00-344, and RP00-632, as well as on any of its customers identified as not included on those service lists.

Any person desiring to intervene or to protest this filing must file in accordance with Rules 211 and 214 of the Commission's Rules of Practice and Procedure (18 CFR 385.211 and 385.214 (2004)) by the date set forth below. Protests will be considered by the Commission in determining the appropriate action to be taken, but will not serve to make protestants parties to the proceeding. Any person wishing to become a party must file a notice of intervention or motion to intervene, as appropriate. Such notices or motions must be filed on or before the dates as indicated below. Anyone filing an intervention or protest must serve a copy of that document on the Applicant. Anyone filing an intervention or protest on or before the intervention or protest date set below need not serve motions to intervene or protests on persons other than the Applicant. Pursuant to Rule 602(f)(2) of the Commission's Rules of Practice and Procedure, 18 CFR 385.602(f)(2) (2004), initial comments on the Settlement are due not later than 20 days after the filing of the Settlement, and reply comments are due not later than 30 days after the filing of the Settlement.

The Commission encourages electronic submission interventions and comments in lieu of paper using the “eFiling” link at http://www.ferc.gov. Persons unable to file electronically should submit an original and 14 copies of the comment or intervention to the Federal Energy Regulatory Commission, 888 First Street, NE., Washington, DC 20426.

This filing is accessible on-line at http://www.ferc.gov, using the “eLibrary” link and is available for review in the Commission's Public Reference Room in Washington, DC. There is an “eSubscription” link on the web site that enables subscribers to receive e-mail notification when a document is added to a subscribed docket(s). For assistance with any FERC Online service, please e-mail FERCOnlineSupport@ferc.gov, or call (866) 208-3676 (toll free). For TTY, call (202) 502-8659.

Interventions, Protests and Initial Comments are due by: April 21, 2005.

Reply Comments are due by: May 2, 2005.

Magalie R. Salas,
Secretary.

[FR Doc. E5-1775 Filed 4-14-05; 8:45 am]

BILLING CODE 6717-01-P